SMALL BUSINESS ADMINISTRATION

[Declaration of Disaster #3626]

State of Louisiana; Amendment #2

In accordance with a notice received from the Department of Homeland Security—Federal Emergency Management Agency—effective October 22, 2004, the above numbered declaration is hereby amended to reestablish the incident period for this disaster as beginning September 13, 2004, and continuing through and including September 26, 2004.

All other information remains the same, i.e., the deadline for filing applications for physical damage is November 15, 2004, and for economic injury the deadline is June 15, 2005.

(Catalog of Federal Domestic Assistance Program Nos. 59002 and 59008.)
Dated: October 25, 2004.
Herbert L. Mitchell,
Associate Administrator for Disaster Assistance.

[FR Doc. 04-24278 Filed 10-29-04; 8:45 am]

BILLING CODE 8025-01-P